DEPARTMENT OF THE INTERIOR

National Park Service

[NPS-WASO-VRP-USPP-NPS0027436; PPWOUSPPS1, PPMPRPP02.Y00000 (199); OMB Control Number 1024-0245]

Agency Information Collection Activities; United States Park Police Pre-Employment Suitability Determination Process

AGENCY: National Park Service, Interior.

ACTION: Notice of information collection; request for comment.

SUMMARY: In accordance with the Paperwork Reduction Act of 1995, we, the National Park Service (NPS) are proposing to renew an information collection.

DATES: Interested persons are invited to submit comments on or before August 12, 2019.

ADDRESSES: Send your comments on this information collection request (ICR) by mail to Phadrea Ponds, Acting NPS Information Collection Clearance Officer, 1201 Oakridge Drive, Fort Collins, CO 80525; or by email at phadrea_ponds@nps.gov; or by telephone at 970-267-7231. Please reference OMB Control Number 1024-0245 in the subject line of your comments.

FOR FURTHER INFORMATION CONTACT: To request additional information about this ICR by mail, contact Captain Jerry Marshall, 1100 Ohio Dr. SW, Washington, DC 2002; or by email at jerry_marshall@nps.gov; or by telephone at 202-610-5591. Please reference OMB Control Number 1024-0245 in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The United States Park Police (USPP) is authorized by Title 5, Code of Federal Regulations, Section 5.2, “Investigation and evaluations,” to collect this information as required in the USPP Pre-employment Suitability Process. All USPP candidates are required to complete and pass competitive written examinations, oral interviews, medical examinations, psychological evaluations, and a battery of physical fitness and agility tests, as well as the forms listed below:

Form 10-2201, “Personal Qualifications Statement”—provides information on the personal history of the candidate.

Form 10-2201A, “Information Release Form”—authorizes the release of all personal and confidential records, to include medical records concerning physical and mental health.

Form 10-2201B, “Release to Obtain a Credit Report”—authorizes the release of information from consumer reporting agencies.

Form 10-2201C, “Lautenberg Certification”—requires information and certification by the applicant regarding a conviction of a misdemeanor crime of domestic violence.

Form 10-2201D, “Physical Efficiency Battery “Waiver” ”—requires the candidate to provide information regarding medical conditions which may impede their ability to meet the minimum efficiency score on the Physical Efficiency Battery (PEB).

Form 10-2201E, “Physician Consent Form”—requires physician certification for the candidate to participate in the PEB.

Form 10-2201F, “Applicant Documentation Form”—required to be completed by the applicant when declining or deferring employment with the USPP.

Title of Collection: United States Park Police Pre-Employment Suitability Determination Process.

OMB Control Number: 1024-0245.

Form Numbers: NPS Forms 10-2201, 10-2201A through 10-2201F.

Type of Review: Extension of a currently approved collection.

Respondents/Affected Public: Candidates for employment as a United States Park Police Officer.

Respondent's Obligation: Required to obtain or retain a benefit.

Frequency of Collection: On occasion.

Total Estimated Annual Nonhour Burden Cost: $238,752 (printing, notarizing and to providing supporting documentation).

Activity | Estimated number of annual responses | Estimated completion time per response | Estimated total annual burden hours
Form 10-2201, “Personal Qualification Statement” | 2,500 | 7 hours | 17,500
Form 10-2201A, “Information Release Form” | 2,500 | 15 minutes | 625
Form 10-2201B, “Release to Obtain a Credit Report'' | 2,500 | 10 minutes | 417
Form 10-2201C, “Lautenberg Certification” | 2,500 | 5 minutes | 208
Form 10-2201D, “Physical Efficiency Battery “Waiver” ” | 2,500 | 10 minutes | 417
Form 10-2201E, “Physician Consent Form” | 2,500 | 15 minutes | 625
Form 10-2201F, “Applicant Documentation Form” | 15 | 5 minutes | 1
Totals | 15,015 |  | 19,793
* Rounded.

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2019-12440 Filed 6-12-19; 8:45 am]

BILLING CODE 4312-52-P